SMALL BUSINESS ADMINISTRATION

[Disaster Declaration #11720 and #11721]

Indiana Disaster Number IN-00030

AGENCY: U.S. Small Business Administration.

ACTION: Amendment 1.

SUMMARY: This is an amendment of the Presidential declaration of a major disaster for the State of Indiana (FEMA-1832-DR), dated 04/22/2009.

Incident: Severe Storms, Tornadoes, and Flooding.

Incident Period: 03/08/2009 through 03/14/2009.

DATES: Effective Date: 05/13/2009.

Physical Loan Application Deadline Date: 06/22/2009.

EIDL Loan Application Deadline Date: 01/22/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Indiana, dated 04/22/2009 is hereby amended to include the following areas as adversely affected by the disaster:

Primary Counties: (Physical Damage and Economic Injury Loans): Daviess, Lawrence, St Joseph.

Contiguous Counties: (Economic Injury Loans Only):

Indiana: Dubois, Greene, Jackson, Knox, Martin, Monroe, Orange, Pike, Washington.

Michigan: Cass.

All other information in the original declaration remains unchanged.

(Catalog of Federal Domestic Assistance Numbers 59002 and 59008)

James E. Rivera,
Acting Associate Administrator for Disaster Assistance.

[FR Doc. E9-11880 Filed 5-20-09; 8:45 am]

BILLING CODE 8025-01-P